ENVIRONMENTAL PROTECTION AGENCY

40 CFR Part 52

[EPA-R10-OAR-2024-0595; FRL-12391-03-R10]

Interim Final Determination To Defer Sanctions; AK, Fairbanks North Star Borough

AGENCY: Environmental Protection Agency (EPA).

ACTION: Interim final determination.

SUMMARY: The Environmental Protection Agency (EPA) is making an interim final determination that the State of Alaska has submitted state implementation plan (SIP) revisions that satisfy outstanding Clean Air Act requirements. This interim final determination defers the imposition of sanctions for the 2006 24-hour fine particulate matter (PM2.5) Fairbanks North Star Borough PM2.5 nonattainment area. This determination is based on a proposed approval, published in the “Proposed Rules” section of this Federal Register, of the SIP revisions, submitted by the State of Alaska (Alaska or the State) on December 4, 2024, to address Clean Air Act requirements for the 2006 24-hour PM2.5 national ambient air quality standards (NAAQS).

DATES: This interim final determination is effective January 8, 2025. However, comments will be accepted until February 7, 2025.

ADDRESSES: Submit your comments, identified by Docket ID No. EPA-R10-OAR-2024-0595, at https://www.regulations.gov. Follow the online instructions for submitting comments. Once submitted, comments cannot be edited or removed from Regulations.gov. The EPA may publish any comment received to its public docket. Do not submit electronically any information you consider to be Confidential Business Information (CBI) or other information the disclosure of which is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

FOR FURTHER INFORMATION CONTACT: Matthew Jentgen, EPA Region 10, 1200 Sixth Avenue—Suite 155, Seattle, WA 98101, (206) 553-0340, jentgen.matthew@epa.gov.

SUPPLEMENTARY INFORMATION: Throughout this document wherever “we,” “us,” or “our” is used, it is intended to refer to the EPA.

I. Background

In 2009, the EPA designated a portion of the Fairbanks North Star Borough as “nonattainment” for the 2006 24-hour PM2.5 NAAQS, which is set at the level of 35 micrograms per cubic meter (μg/m³) (Fairbanks PM2.5 Nonattainment Area) (74 FR 58688, November 13, 2009). Effective July 2, 2014, the EPA classified the area as “Moderate” (79 FR 31566, June 2, 2014). Subsequently, Alaska submitted, and the EPA approved, a plan to meet the Moderate nonattainment area requirements (82 FR 42457, September 8, 2017) (Fairbanks Moderate Plan).

On May 10, 2017, the EPA determined that the Fairbanks PM2.5 Nonattainment Area failed to attain the 2006 24-hour PM2.5 NAAQS in the area by the outermost statutory Moderate area attainment date of December 31, 2015 (82 FR 21711). As a result, the Fairbanks PM2.5 Nonattainment Area was reclassified as a “Serious” nonattainment area by operation of law. On September 2, 2020, the EPA determined that the area failed to attain by the Serious area attainment date and denied the State's Serious area attainment date extension request (85 FR 54509). As a result, Alaska was required to submit a revised SIP submission to meet both the Serious area attainment plan requirements and the additional requirements set forth in Clean Air Act (CAA or Act) section 189(d) by December 31, 2020.¹

¹ 40 CFR 51.1003(c).

On December 13, 2019, and December 15, 2020, Alaska submitted two state implementation plan (SIP) revisions to meet the CAA planning requirements for the Serious Fairbanks PM2.5 Nonattainment Area. On December 5, 2023, the EPA issued a final rule approving in part and disapproving in part these SIP submissions.² Pursuant to section 179 of the CAA and the EPA's regulations in the Code of Federal Regulations (CFR) at 40 CFR 52.31, our partial disapproval action started an 18-month clock for the application of the offset sanction and a 24-month clock for the application of the highway sanction, beginning on the effective date of our December 5, 2023, action (i.e., January 4, 2024), unless the State submits, and the EPA approves, a SIP revision or revisions that address the deficiencies that formed the basis for the disapproval prior to the expiration of the sanctions clocks.

² 88 FR 84626, December 5, 2023.

On December 4, 2024, Alaska submitted SIP revisions to rectify the previously disapproved portions of its SIP submissions for the Fairbanks PM2.5 Nonattainment Area (Fairbanks Revised 189(d) Plan). In the Proposed Rules section of this Federal Register, we are proposing to approve the Fairbanks Revised 189(d) Plan as meeting the CAA Serious area and CAA section 189(d) requirements for the Fairbanks PM2.5 Nonattainment Area. Pursuant to 40 CFR 52.31(d)(2)(i), based on the proposed approval of previously deficient planning requirements, we are taking this interim final action to defer the imposition of the offset sanctions and the highway sanctions triggered by our December 5, 2023, disapproval.

The EPA is providing the public with an opportunity to comment on this deferral of sanctions. If our assessment described in this interim final determination and the proposed approval of previously deficient planning requirements change on the basis of comments submitted, we will take subsequent final action to impose sanctions pursuant to 40 CFR 52.31(d). All sanctions and sanction clocks related to the December 5, 2023, disapproval will be permanently terminated on the effective date of a full final approval action.

II. EPA Action

We are making an interim final determination to defer the imposition of CAA section 179 sanctions associated with our December 5, 2023, final rule approving in part and disapproving in part the Fairbanks Serious Plan and Fairbanks 189(d) Plan.³ This action is based on our concurrent proposed approval, in the “Proposed Rules” section of this Federal Register, of the SIP revisions submitted by Alaska on December 4, 2024.⁴

³ 88 FR 84626, December 5, 2023.

⁴ See EPA-R10-OAR-2024-0595.

Because the EPA has preliminarily determined that Alaska has addressed the SIP deficiencies, relief from sanctions designed to compel submission of revised SIP elements, should be provided as quickly as possible. Therefore, the EPA is invoking the good cause exception under the Administrative Procedure Act (APA) in not providing an opportunity for comment before this action takes effect (5 U.S.C. 553(b)(3)). However, by this action the EPA is providing the public with a chance to comment on the EPA's determination after the effective date, and the EPA will consider any comments received in determining whether to reverse such action.

The EPA believes that notice and comment rulemaking before the effective date of this action is impracticable and contrary to the public interest. As discussed in detail in the proposed approval of Alaska's SIP revisions published in the “Proposed Rules” section of this Federal Register, the EPA has reviewed the State's revisions and, through its proposed action, have proposed to find that the State has corrected the deficiencies that started the sanctions clocks. Therefore, it is not in the public interest to apply sanctions. The EPA believes that it is necessary to use the interim final process to defer sanctions while the EPA completes its rulemaking process on the approvability of the SIP revisions. Moreover, with respect to the effective date of this action, the EPA is invoking the good cause exception to the 30-day notice requirement of the APA because the purpose of this notice is to relieve a restriction (5 U.S.C. 553(d)(1)).

III. Statutory and Executive Order Reviews

Additional information about these statutes and Executive Orders can be found at https://www.epa.gov/laws-regulations/laws-and-executive-orders.

A. Executive Order 12866: Regulatory Planning and Review as Amended by Executive Order 14094: Modernizing Regulatory Review

This action is not a significant regulatory action and was therefore not submitted to the Office of Management and Budget (OMB) for review.

B. Paperwork Reduction Act (PRA) (44 U.S.C. 3401 et seq.)

This action does not impose an information collection burden under the PRA. This action defers application of sanctions and imposes no new requirements.

C. Regulatory Flexibility Act (RFA) (5 U.S.C. 601 et seq.)

I certify that this action will not have a significant economic impact on a substantial number of small entities under the RFA. This action will not impose any requirements on small entities. This action defers application of sanctions and imposes no new requirements.

D. Unfunded Mandates Reform Act (UMRA) (Pub. L. 104-4)

This action does not contain any unfunded mandate as described in UMRA, 2 U.S.C. 1531-1538, and does not significantly or uniquely affect small governments. The action imposes no enforceable duty on any state, local or tribal governments or the private sector.

E. Executive Order 13132: Federalism

This action does not have federalism implications. It will not have substantial direct effects on the states, on the relationship between the national government and the states, or on the distribution of power and responsibilities among the various levels of government.

F. Executive Order 13175: Coordination With Indian Tribal Governments

This action does not have Tribal implications, as specified in Executive Order 13175. This action defers application of sanctions and imposes no new requirements. In addition, this action does not apply on any Indian reservation land or in any other area where the EPA or an Indian Tribe has demonstrated that a tribe has jurisdiction, and will not impose substantial direct costs on Tribal governments or preempt Tribal law. Thus, Executive Order 13175 does not apply to this action.

G. Executive Order 13045: Protection of Children From Environmental Health Risks and Safety Risks

The EPA interprets Executive Order 13045 as applying only to those regulatory actions that concern environmental health or safety risks that the EPA has reason to believe may disproportionately affect children, per the definition of “covered regulatory action” in section 2-202 of the Executive Order. This action is not subject to Executive Order 13045 because it does not concern an environmental health risk or safety.

H. Executive Order 13211: Actions That Significantly Affect Energy Supply, Distribution, or Use

This action is not subject to Executive Order 13211, because it is not a significant regulatory action under Executive Order 12866.

I. National Technology Transfer and Advancement Act (NTTAA)

Section 12(d) of the NTTAA directs the EPA to use voluntary consensus standards in its regulatory activities unless to do so would be inconsistent with applicable law or otherwise impractical. This action does not involve technical standards.

J. Executive Order 12898: Federal Actions To Address Environmental Justice in Minority Populations and Low-Income Population

Executive Order 12898 (Federal Actions to Address Environmental Justice in Minority Populations and Low-Income Populations, 59 FR 7629, February 16, 1994) directs Federal agencies to identify and address “disproportionately high and adverse human health or environmental effects” of their actions on communities with environmental justice (EJ) concerns to the greatest extent practicable and permitted by law. Executive Order 14096 (Revitalizing Our Nation's Commitment to Environmental Justice for All, 88 FR 25251, April 26, 2023) builds on and supplements Executive Order 12898 and defines EJ as, among other things, the just treatment and meaningful involvement of all people, regardless of income, race, color, national origin, or Tribal affiliation, or disability in agency decision-making and other Federal activities that affect human health and the environment.”

The air agency did not evaluate EJ considerations as part of its SIP submission; the CAA and applicable implementing regulations neither prohibit nor require such an evaluation. The EPA did not perform an EJ analysis and did not consider EJ in this action. Consideration of EJ is not required as part of this action, and there is no information in the record inconsistent with the stated goal of Executive Order 12898/14096 of achieving EJ for communities with EJ concerns.

K. Congressional Review Act (CRA) (5 U.S.C. 801 et seq.)

This action is subject to the Congressional Review Act (CRA), and the EPA will submit a rule report to each House of the Congress and to the Comptroller General of the United States. The CRA allows the issuing agency to make a rule effective sooner than otherwise provided by the CRA if the agency makes a good cause finding that notice and comment rulemaking procedures are impracticable, unnecessary, or contrary to the public interest (5 U.S.C. 808(2)). The EPA has made a good cause finding for this action as discussed in section II of this preamble, including the basis for that finding.

Under section 307(b)(1) of the CAA, petitions for judicial review of this action must be filed in the United States Court of Appeals for the appropriate circuit by March 10, 2025. Filing a petition for reconsideration by the EPA Administrator of this action does not affect the finality of this action for the purpose of judicial review nor does it extend the time within which petition for judicial review may be filed, and shall not postpone the effectiveness of such rule or action. This action may not be challenged later in proceedings to enforce its requirements (see CAA section 307(b)(2)).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Authority: 42 U.S.C. 7401 et seq.

Dated: December 17, 2024.
Casey Sixkiller,
Regional Administrator, Region 10.

[FR Doc. 2024-30649 Filed 1-7-25; 8:45 am]

BILLING CODE 6560-50-P